CORPORATION FOR NATIONAL AND COMMUNITY SERVICE

Agency Information Collection Activities; Submission to the Office of Management and Budget for Review and Approval; Comment Request; Application Package for Day of Service Project Collection Tool

AGENCY: Corporation for National and Community Service.

ACTION: Notice of information collection; request for comment.

SUMMARY: The Corporation for National and Community Service, operating as AmeriCorps, has submitted a public information collection request (ICR) entitled Day of Service Project Collection Tool for review and approval in accordance with the Paperwork Reduction Act.

DATES: Written comments must be submitted to the individual and office listed in the ADDRESSES section by February 9, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Rhonda Taylor, at 202-355-2202 or by email to rtaylor@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Monday, September 27, 2021 at Vol. 86, No. 184. This comment period ended November 26, 2021. No public comments were received from this Notice.

Title of Collection: Day of Service Project Collection Tool.

OMB Control Number: 3045-0122.

Type of Review: Renewal.

Respondents/Affected Public: Businesses and organizations.

Total Estimated Number of Annual Responses: 100,000.

Total Estimated Number of Annual Burden Hours: 17,000.

Abstract: AmeriCorps is soliciting comments concerning the proposed renewal of its Day of Service Project Tool. Organizers of volunteer events will be able to register their projects. This group includes national service grantees, corporations, volunteer ornganizations, government entities, and individuals. AmeriCorps wants to help promote activities across the country and also to assess the impact of the agency's initiatives. Information provided is purely voluntary and will not be used for any grant or funding support. The information collection will otherwise be used in the same manner as the existing application. AmeriCorps also seeks to continue using the current application until the revised application is approved by OMB. The current application is due to expire on 12-31-2021.

Dated: January 3, 2022.
Rhonda Taylor,
Director of Partnerships and Program Engagement.

[FR Doc. 2022-00219 Filed 1-7-22; 8:45 am]

BILLING CODE 6050-28-P